DEPARTMENT OF HEALTH AND HUMAN SERVICES

Administration for Children and Families

Proposed Information Collection Activity; Comment Request

Title: Subsidized and Transitional Employment Demonstration (STED) and Enhanced Transitional Jobs Demonstration (ETJD).

OMB No.: 0970-0413.

Description: The Administration for Children and Families (ACF) within the U.S. Department of Health and Human Services (HHS) has launched a national evaluation called the Subsidized and Transitional Employment Demonstration (STED). At the same time, the Employment and Training Administration (ETA) within the Department of labor (DOL) is conducting an evaluation of the Enhanced Transistional Jobs Demonstration (ETJD). These evaluations will inform the Federal government about the effectiveness of subsidized and transitional employment programs in helping vulnerable populations secure unsubsidized jobs in the labor market and achieve self-sufficiency. The projects will evaluate up to twelve subsidized and transitional employment programs nationwide. ACF and ETA are collaborating on the two evaluations. In 2011, ETA awarded grants to seven transitional jobs programs as part of the ETJD, which is testing the effect of combining transitional jobs with enhanced services to assist ex-offenders and noncustodial parents improve labor market outcomes, reduce criminal recidivism and improve family engagement.

The STED and ETJD projects have complementary goals and are focusing on related program models and target populations. Thus, ACF and ETA have agreed to collaborate on the design of data collection instruments to promote consistency across the projects. In addition, two of the seven DOL-funded ETJD programs will be evaluated as part of the STED project. Data for the study will be collected from the following three major sources: Baseline Forms; Follow-Up Surveys (6, 12, and 30 months); and Implementation Research and Site Visits.

The proposed revised information collection includes alternate 6- and 12- month survey instruments which were developed for the STED sites serving young adults. It is being submitted by ACF on behalf of both collaborating agencies.

Respondents: The respondents to the young adult baseline and follow-up surveys include study participants identified as young adults in the treatment and control groups.

Annual Burden Estimates

Note: No additional burden is requested from the already approved information collection.

Instrument | Annual number of respondents | Number of responses per respondent | Average burden hour per response | Total annual burden hours ¹
6-month survey:
Youth Respondents (amended version) | 533 | 1 | .5 | 267
Adult Respondents (already approved) | 1,334 | 1 | .5 | 667
12-month survey:
Youth Respondents (amended version) | 533 | 1 | .75 | 400
Adult Respondents (already approved) | 2,667 | 1 | .75 | 2,000
Total Burden for Surveys |  |  |  | 3,334
¹ Rounding may cause slight discrepancies between annual and total estimated burden hours.

Additional Information

Copies of the proposed collection may be obtained by writing to the Administration for Children and Families, Office of Planning, Research and Evaluation, 370 L'Enfant Promenade, SW., Washington, DC 20447, Attn: OPRE Reports Clearance Officer. All requests should be identified by the title of the information collection. Email address: OPREinfocollection@acf.hhs.gov.

OMB Comment

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Steven M. Hanmer,
OPRE Reports Clearance Officer.

[FR Doc. 2013-11762 Filed 5-16-13; 8:45 am]

BILLING CODE 4184-09-P